GOVERNMENT ACCOUNTABILITY OFFICE

Health Information Technology Policy Committee Nomination Letters

AGENCY: Government Accountability Office (GAO).

ACTION: Notice on letters of nomination of candidates.

SUMMARY: The American Recovery and Reinvestment Act of 2009 (ARRA) established the Health Information Technology Policy Committee (Health IT Policy Committee) and gave the Comptroller General responsibility for appointing 13 of its 20 members.

As the result of terms ending in April 2013, GAO is accepting nominations of individuals for two openings on the committee in the following categories of representation or expertise required in ARRA: advocate for patients or consumers, and a member from a labor organization representing health care workers. For appointments to the HIT Policy committee to be made by April 1, 2013 in these categories, I am announcing the following: Letters of nomination and resumes should be submitted between February 1 and 22, 2013 to ensure adequate opportunity for review and consideration of nominees.

ADDRESSES: GAO: HITCommittee@gao.gov; GAO: 441 G Street NW., Washington, DC 20548.

FOR MORE INFORMATION CONTACT: GAO: Office of Public Affairs, (202) 512-4800. 42 U.S.C. 300jj -12.

Gene L. Dodaro,
Comptroller General of the United States.

[FR Doc. 2013-02104 Filed 2-1-13; 8:45 am]

BILLING CODE 1610-02-M